DEPARTMENT OF TRANSPORTATION

Federal Highway Administration

Notice of Final Federal Agency Actions on Proposed Highway in Pennsylvania

AGENCY: Federal Highway Administration (FHWA), DOT

ACTION: Notice of Limitation on Claims for Judicial Review of Actions by FHWA and other Federal Agencies.

SUMMARY: This notice announces actions taken by FHWA and other Federal agencies that are final within the meaning of 23 U.S.C. 139(l)(1). The actions relate to a proposed highway project, State Route 15, section 088, Central Susquehanna Valley Transportation Project (CSVT) in Snyder, Union and Northumberland Counties, in the Commonwealth of Pennsylvania. Those actions grant licenses, permits, and approvals for the project.

DATES: By this notice, FHWA is advising the public of final agency actions subject to 23 U.S.C. 139(l)(1). A claim seeking judicial review of the Federal agency actions on the highway project will be barred unless the claim is filed on or before January 19, 2016. If the Federal law that authorizes judicial review of a claim provides a time period of less than 150 days for filing such claim, then that shorter time period still applies.

FOR FURTHER INFORMATION CONTACT: For FHWA: Ms. Renee Sigel, Division Administrator, Federal Highway Administration, 228 Walnut Street, Room 508, Harrisburg, Pennsylvania 17101-1720; Office Hours 8 a.m. to 4:30 p.m.; telephone: (717) 221-3461; email: pennsylvania.fhwa@dot.gov. For PennDOT: For PennDOT: Mr. Matthew Beck, P.E., Assistant Plans Engineer, Pennsylvania Department of Transportation, 715 Jordan Avenue, P.O. Box 218, Montoursville, PA 17754; Office Hours 7:30 a.m. to 3:30 p.m.; telephone: (570) 368-4256; email: matbeck@pa.gov.

SUPPLEMENTARY INFORMATION: On August 8, 2003, FHWA (via EPA) published a “Environmental Impact Statements; Notice of Availability” in the Federal Register at 68 FR 47309 (ER-FRL-6642-7) for the following highway project: State Route 15, section 088, Central Susquehanna Valley Transportation Project (CSVT) in Snyder, Union and Northumberland Counties. The project includes the construction of approximately 12.4 miles of new, limited access, four-lane highway extending from the existing U.S. Route 11/15 Interchange in Monroe Township (north of Selinsgrove) in Snyder County to PA Route 147 in West Chillisquaque Township (at a location just south of the PA Route 45 interchange near Montandon) in Northumberland County. The new highway includes a connector to PA Route 61 in Shamokin Dam and a new bridge crossing over the West Branch of the Susquehanna River extending from Union Township, Union County to Point Township, Northumberland County. The CSVT project will reduce congestion, provide better access to the region, improve safety by reducing traffic conflicts, and support population and economic growth that is expected in the region. The roadways in the corridor link the towns of Selinsgrove, Shamokin Dam, Sunbury, Northumberland, Milton, and Lewisburg. The CSVT Final EIS (EIS No. 030356) was published August 8, 2003, the Record of Decision was approved in October 2003, and the Re-evaluation No. 1 was approved on May 10, 2006. Notice is hereby given that, subsequent to the earlier FHWA notice, FHWA and other Federal Agencies have taken final agency actions within the meaning of 23 U.S.C. 139(l)(1) by approving a Re-evaluation and the associated license's, permits and approvals for the highway project. The action(s) by FHWA, associated final actions by other Federal agencies, and the laws under which such actions were taken, are described in FHWA decisions and its project records, as referenced in the Final EIS, Record of Decision, 2006 Re-evaluation No. 1 and 2015 Re-evaluation No. 2. That information is available by contacting FHWA at the address provided above.

Information about the project and project records also are available from FHWA and PennDOT at the addresses provided above. The Final EIS, Record of Decision, 2006 Re-evaluation No. 1, 2015 Re-evaluation No. 2, and FHWA decisions can be viewed and downloaded from the project Web site at http://www.csvt.com/ (click on the Resources button) or obtained from any contact listed above. This notice applies to all Federal agency final actions taken after the issuance date of the FHWA Federal Register notice described above. The laws and their associated regulations under which actions were taken include, but are not limited to:

1. General: National Environmental Policy Act (NEPA) [42 U.S.C. 4321-4351]; Federal-Aid Highway Act [23 U.S.C. 109 and 23 U.S.C. 128].

2. Air: Clean Air Act [42 U.S.C. 7401-7671q].

3. Land: Section 4(f) of the Department of Transportation Act of 1966 [49 U.S.C. 303; 23 U.S.C. 138]; Landscaping and Scenic Enhancement (Wildflowers) [23 U.S.C. 319].

4. Wildlife: Endangered Species Act [16 U.S.C. 1531-1544 and Section 1536]; Fish and Wildlife Coordination Act [16 U.S.C. 661-667d]; Migratory Bird Treaty Act [16 U.S.C. 703-712].

5. Historic and Cultural Resources: Section 106 of the National Historic Preservation Act of 1966, as amended [16 U.S.C. 470f]; Archeological Resources Protection Act of 1977 [16 U.S.C. 470aa-470mm]; Archeological and Historic Preservation Act [16 U.S.C. 469-469c]; Native American Grave Protection and Repatriation Act (NAGPRA) [25 U.S.C. 3001-3013].

6. Social and Economic: American Indian Religious Freedom Act [42 U.S.C. 1996]; Farmland Protection Policy Act (FPPA) [7 U.S.C. 4201-4209].

7. Wetlands and Water Resources: Clean Water Act (Section 404, Section 401, Section 319) [33 U.S.C. 1251-1387]; Land and Water Conservation Fund (LWCF) [16 U.S.C. 4601-4604]; Safe Drinking Water Act (SDWA) [42 U.S.C. 300f-300j-26)]; Rivers and Harbors Act of 1899 [33 U.S.C. 401-406]; Wild and Scenic Rivers Act [16 U.S.C. 1271-1287]; Emergency Wetlands Resources Act, [16 U.S.C. 3901, 3921]; Wetlands Mitigation [23 U.S.C. 119(g) and 133(b)(14)]; Flood Disaster Protection Act, 42 U.S.C. 4012a, 4106].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing E.O. 12372 regarding intergovernmental consultation on Federal programs and activities apply to this program.)

Authority: 23 U.S.C. 139(l)(1)

Issued on: August 12, 2015.
Renee Sigel,
Division Administrator, Harrisburg, Pennsylvania.

[FR Doc. 2015-20563 Filed 8-20-15; 8:45 am]

BILLING CODE 4910-RY-P